DEPARTMENT OF COMMERCE

International Trade Administration

[A-357-812]

Honey from Argentina: Notice of Partial Rescission of Antidumping Duty Administrative Review

AGENCY: Import Administration, International Trade Administration, Department of Commerce.

ACTION: Notice of Partial Rescission of Antidumping Duty Administrative Review.

SUMMARY: On January 22, 2003, the Department of Commerce (the Department) published in the Federal Register (68 FR 3009) a notice announcing the initiation of the administrative review of the antidumping duty order on honey from Argentina. The period of review (POR) is May 11, 2001, to November 30, 2002. This review has now been partially rescinded for certain companies because the requesting parties withdrew their requests.

EFFECTIVE DATE: September 3, 2003

FOR FURTHER INFORMATION CONTACT: Phyllis Hall, Donna Kinsella or David Cordell, Enforcement Group III, Office 8, Import Administration, International Trade Administration, U.S. Department of Commerce, 14th Street and Constitution Avenue, N.W., Room 7866, Washington, D.C. 20230; telephone (202) 482-1398, (202) 482-0194, (202) 482-0408, respectively.

Scope of the Review

The merchandise under review is honey from Argentina. For purposes of this review, the products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise under review is currently classifiable under subheadings 0409.00.00, 1702.90.90, and 2106.90.99 of the Harmonized Tariff Schedule of the United States (HTSUS). Although the HTSUS subheadings are provided for convenience and U.S. Customs Service (Customs) purposes, the Department's written description of the merchandise under this order is dispositive.

BACKGROUND:

On December 31, 2002, the American Honey Producers Association and the Sioux Honey Association ( collectively “petitioners”) requested an administrative review of the antidumping duty order ( See Notice of Antidumping Duty Order: Honey from Argentina, 66 FR 63672 (December 10, 2001)) on honey from Argentina in response to the Department's notice of opportunity to request a review published in the Federal Register. The petitioners requested the Department conduct an administrative review of entries of subject merchandise made by 21 Argentine producers/exporters. In addition, the Department received requests for reviews from 9 Argentine exporters. See Initiation of Antidumping and Countervailing Duty Administrative Reviews and Request for Revocation in Part, 68 FR 3009 (January 22, 2003).

The Department initiated the review for all companies. On January 17, 2003, petitioners requested a withdrawal of request for review of 14 companies and the Department granted this request in Honey from Argentina: Notice of Partial Rescission of Antidumping Duty Administrative Review, 68 FR 13895 (March 21, 2003).

On August 13, 2003, two Argentine exporters, Radix S.r.L. (“Radix”) and Compania Europeo Americana S.A. (“CEASA”), submitted letters of withdrawal of request for review. On the same date, petitioners also submitted a letter of withdrawal of a request for review with respect to Radix and CEASA.

Ordinarily, parties have 90 days from the publication of the notice of initiation of review in which to withdraw a request for review. See 19 CFR 351.213(d)(1). We received petitioners' and respondents' withdrawal requests after the 90-day period had elapsed. However, in accordance with 19 CFR 351.213(d)(1), the Secretary may extend this time limit if the Secretary decides it is reasonable to do so. In this case, the review has not progressed substantially, nor has the Department conducted verification of the questionnaire responses by Radix or CEASA. Furthermore, the Department has not issued its preliminary results with respect to these 2 companies. As a result, there would be no undue burden on the parties or the Department if the Department were to rescind the review on the basis of these requests. Therefore, the Department has determined that it would be reasonable to grant the withdrawal at this time. Additionally, we conclude that the withdrawal does not constitute an “abuse” of our procedures. See Antidumping Duties: Countervailing Duties; Final Rule, 62 FR 27296, 27317 (May 19, 1997). As such, with respect to Radix and CEASA, the Department is rescinding the reviews of the antidumping duty order on honey from Argentina covering the period May 11, 2001, through November 30, 2002.

This notice is issued and published in accordance with sections 751(a)(1) and 777(i)(l) of the Act and 19 CFR 351.213(d)(4) of the Department's regulations.

Dated: August 26, 2003.
James J. Jochum,
Assistant Secretary for Import Administration.

[FR Doc. 03-22432 Filed 9-2-03; 8:45 am]

BILLING CODE 3510-DS-S